DEPARTMENT OF ENERGY

Federal Energy Regulatory Commission

Notice Announcing Filing Priority for Preliminary Permit Applications

January 28, 2011.

| Project No.
FFP Missouri 15, LLC | 13762-000
Morgantown Hydro, LLC | 13773-000
Three Rivers Hydro, LLC | 13784-000

On January 27, 2011, the Commission held a drawing to determine priority between three competing preliminary permit applications with identical filing times. In the event that the Commission concludes that none of the applicants' plans are better adapted than the others to develop, conserve, and utilize in the public interest the water resources of the region at issue, the priority established by this drawing will serve as the tiebreaker. Based on the drawing, the order of priority is as follows:

1. FFP Missouri 15, LLC—Project No. 13762-000

2. Three Rivers Hydro, LLC—Project No. 13784-000

3. Morgantown Hydro, LLC—Project No. 13773-000

Nathaniel J. Davis, Sr.,
Deputy Secretary.

[FR Doc. 2011-2620 Filed 2-4-11; 8:45 am]

BILLING CODE 6717-01-P